DEPARTMENT OF COMMERCE

National Oceanic and Atmospheric Administration

[I.D.102000B]

Endangered Species; Permit No. 1144

AGENCY: National Marine Fisheries Service (NMFS), National Oceanic and Atmospheric Administration (NOAA), Commerce.

ACTION: Scientific research permit modification.

SUMMARY: Notice is hereby given that a request for modification of scientific research permit no. 1144 submitted by Michael Bresette has been granted.

ADDRESSES: The amendment and related documents are available for review upon written request or by appointment in the following office(s):

Permits, Conservation and Education Division, Office of Protected Resources, NMFS, 1315 East-West Highway, Room 13705, Silver Spring, MD 20910; phone (301)713-2289, fax (301)713-0376;

Southeast Region, NMFS, 9721 Executive Center Drive North, St. Petersburg, FL 33702-2432; phone (727)570-5301; fax (727)570-5320.

FOR FURTHER INFORMATION CONTACT: Patrick Opay, (301)713-1401 or Carrie Hubard, (301)713-2289.

SUPPLEMENTARY INFORMATION: The requested amendment has been granted under the authority of the Endangered Species Act of 1973, as amended (ESA; 16 U.S.C. 1531 et seq.) and the provisions of 50 CFR 222.306 of the regulations governing the taking, importing, and exporting of endangered and threatened fish and wildlife (50 CFR 222-226).

The modification extends the expiration date of the Permit from July 31, 2003, to July 31, 2004, for takes of green (Chelonia mydas), loggerhead (Caretta caretta), and Kemp's ridley (Lepidochelys kempii) sea turtles. It also updates Special Condition C.10. (the net check interval) and adds Special Condition C.12 (sterile research procedures) to the permit to reflect current recommended protocols in order to ensure the safety and health of the sea turtles taken by the research activities.

Issuance of this amendment, as required by the ESA was based on a finding that such permit: (1) Was applied for in good faith; (2) will not operate to the disadvantage of the threatened and endangered species which are the subject of this permit; and (3) is consistent with the purposes and policies set forth in section 2 of the ESA.

Dated: July 28, 2003.
Stephen L. Leathery,
Chief, Permits, Conservation and Education Division, Office of Protected Resources, National Marine Fisheries Service.

[FR Doc. 03-19635 Filed 7-31-03; 8:45 am]

BILLING CODE 3510-22-S